DEPARTMENT OF TRANSPORTATION

Federal Motor Carrier Safety Administration

[Docket No. FMCSA-2016-0206]

Qualification of Drivers; Exemption Applications; Vision

AGENCY: Federal Motor Carrier Safety Administration (FMCSA), DOT.

ACTION: Notice of applications for exemptions; request for comments.

SUMMARY: FMCSA announces receipt of applications from 12 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before September 30, 2016. All comments will be investigated by FMCSA. The exemptions will be issued the day after the comment period closes.

ADDRESSES: You may submit comments bearing the Federal Docket Management System (FDMS) Docket No. FMCSA-2016-0206 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 12 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Timothy D. Beaulier

Mr. Beaulier, 58, has had a macular scar in his right eye due to a traumatic incident in 1971. The visual acuity in his right eye is light perception, and in his left eye, 20/20. Following an examination in 2016, his optometrist stated, “Tim does well as a monocular patient. I feel he will have no issues on the roadway based on visual demands. I do not see any issue with Tim Beaulier's ability to safely operate a commercial vehicle at this time.” Mr. Beaulier reported that he has driven straight trucks for 30 years, accumulating 15,000 miles and tractor-trailer combinations for 14 years, accumulating 218,400 miles. He holds a Class CA CDL from Michigan. His driving record for the last 3 years shows no crashes and no convictions for moving violations in a CMV.

Earl D. Edland

Mr. Edland, 71, has complete loss of vision in his right eye since childhood. The visual acuity in his right eye is no light perception, and in his left eye, 20/25. Following an examination in 2015, his ophthalmologist stated, “His visual status has been stable for many years . . . Mr. Edland appears to be functioning well and it is my opinion that he is capable of operating a commercial motor vehicle in traffic.” Mr. Eldand reported that he has driven straight trucks for 50 years, accumulating 1.3 million miles. He holds a Class B CDL from Minnesota. His driving record for the last 3 years shows no crashes and no convictions for moving violations in a CMV.

David M. Field

Mr. Field, 50, has had amblyopia in his right eye since childhood. The visual acuity in his right eye is 20/400, and in his left eye, 20/15. Following an examination in 2016, his ophthalmologist stated, “Where he has been functioning successfully with excellent central and peripheral vision under binocular conditions, it is my opinion that he has more than sufficient vision to continue to perform the driving tasks required to operate a commercial vehicle.” Mr. Field reported that he has driven straight trucks for 30 years, accumulating 1.5 million miles and tractor-trailer combinations for 30 years, accumulating 1.5 million miles. He holds a Class AMC CDL from New Hampshire. His driving record for the last 3 years shows no crashes and no convictions for moving violations in a CMV.

Jerry D. Gartman

Mr. Gartman, 60, has had amblyopia in his right eye since childhood. The visual acuity in his right eye is 20/70, and in his left eye, 20/20. Following an examination in 2016, his optometrist stated, “In my medical opinion, Mr. Gartman has sufficient vision to perform the driving tasks required to operate a commercial vehicle.” Mr. Gartman reported that he has driven straight trucks for 3 years, accumulating 90,000 miles and tractor-trailer combinations for 14 years, accumulating 700,000 miles. He holds a Class AM CDL from Texas. His driving record for the last 3 years shows no crashes and no convictions for moving violations in a CMV.

William I. Inskeep

Mr. Inskeep, 57, has glaucoma in his right eye due to a traumatic incident in 2009. The visual acuity in his right eye is 20/70, and in his left eye, 20/15. Following an examination in 2016, his optometrist stated, “Mr. Inskeep has been able to drive a commercial vehicle over the years and could continue to do so since his glaucoma is stable and unchanged since 2009.” Mr. Inskeep reported that he has driven straight trucks for 27 years, accumulating 810,000 miles, and tractor-trailer combinations for 3 years, accumulating 45,000 miles. He holds a Class A CDL from Ohio. His driving record for the last 3 years shows no crashes and no convictions for moving violations in a CMV.

Spencer B. Jacobs

Mr. Jacobs, 41, has had amblyopia in his left eye since childhood. The visual acuity in his right eye is 20/20, and in his left eye, 20/70. Following an examination in 2016, his optometrist stated, “It is my expert opinion that Spencer Jacobs has sufficient vision to operate a commercial vehicle.” Mr. Jacobs reported that he has driven tractor-trailer combinations for 3 years, accumulating 22,500 miles. He holds a Class A CDL from Texas. His driving record for the last 3 years shows no crashes and no convictions for moving violations in a CMV.

Edison Joe

Mr. Joe, 62, has had anisometropia and amblyopia in his right eye since childhood. The visual acuity in his right eye is 20/40, and in his left eye, 20/20. Following an examination in 2016, his optometrist stated, “From a vision standpoint only, Mr. Joe has sufficient vision to perform the driving tasks required to operate a commercial vehicle.” Mr. Joe reported that he has driven straight trucks for 10 years, accumulating 260,000 miles. He holds an operator's license from New Mexico. His driving record for the last 3 years shows no crashes and no convictions for moving violations in a CMV.

Duane A. McCord

Mr. McCord, 49, has a prosthesis in his right eye due to a traumatic incident in childhood. The visual acuity in his right eye is no light perception, and in his left eye, 20/20. Following an examination in 2016, his optometrist stated, “Based on all of the findings, I have determined that Mr. McCord does have sufficient vision to perform the driving tasks required to operate a commercial vehicle.” Mr. McCord reported that he has driven straight trucks for 10 years, accumulating 500,000 miles. He holds an operator's license from Illinois. His driving record for the last 3 years shows no crashes and no convictions for moving violations in a CMV.

Odilio Monterroso De Leon

Mr. Monterroso De Leon, 44, has had a prosthetic in his left eye due to a traumatic incident in birth. The visual acuity in his right eye is 20/20, and in his left eye, no light perception. Following an examination in 2016, his optometrist stated, “I certify that in my medical opinion, Mr. Monterroso has sufficient vision to perform the driving tasks required to operate a commercial vehicle.” Mr. Monterroso De Leon reported that he has driven straight trucks for 15 years, accumulating 1.88 million miles. He holds an operator's license from Texas. His driving record for the last 3 years shows no crashes and no convictions for moving violations in a CMV.

James M. Moore

Mr. Moore, 74, has a prosthetic in his left eye due to a traumatic incident in 1976. The visual acuity in his right eye is 20/20, and in his left eye, no light perception. Following an examination in 2016, his optometrist stated, “I certify from the above qualifications that Mr. Moore has sufficient vision to perform the driving tasks required to operate a commercial vehicle.” Mr. Moore reported that he has driven tractor-trailer combinations for 30 years, accumulating 3.12 million miles. He holds a Class A CDL from Mississippi. His driving record for the last 3 years shows no crashes and no convictions for moving violations in a CMV.

Raymond White

Mr. White, 58, has a retinal detachment in his right eye since childhood. The visual acuity in his right eye is counting fingers, and in his left eye, 20/20. Following an examination in 2015, his ophthalmologist stated, “I would consider that Mr. White has adequate vision to perform driving tests [sic] and to operate a commercial vehicle.” Mr. White reported that he has driven tractor-trailer combinations for 38 years, accumulating 4.94 million miles. He holds a Class A CDL from North Carolina. His driving record for the last 3 years shows no crashes and no convictions for moving violations in a CMV.

Brian C. Wittenburg

Mr. Wittenburg, 43, had a cerebrovascular accident in his right eye in 2006. The visual acuity in his right eye is counting fingers, and in his left eye, 20/20. Following an examination in 2016, his ophthalmologist stated, “Mr. Wittenburg has sufficient vision to continue to operate a commercial vehicle.” Mr. Wittenburg reported that he has driven straight trucks for 20 years, accumulating 500,000 miles. He holds an operator's license from North Carolina. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0206 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0206 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: August 19, 2016.
Larry W. Minor,
Associate Administrator for Policy.

[FR Doc. 2016-20932 Filed 8-30-16; 8:45 am]

BILLING CODE 4910-EX-P